DEPARTMENT OF DEFENSE

Department of the Army

Requests To Exhume and Repatriate Native American Burials From Carlisle Indian Industrial School Cemetery; Public Listening Sessions

AGENCY: Department of the Army, DoD.

ACTION: Notice of public listening sessions.

SUMMARY: The Army National Military Cemeteries (ANMC) announces that it will hold two public listening sessions to solicit information on tribal requests for exhumation of Native American human remains from the former Carlisle Indian Industrial School Cemetery located on Carlisle Barracks, PA. ANMC has received requests from two tribes to disinter and repatriate the remains of tribal children buried at this cemetery. The listening sessions will be held in conjunction with the National Council of the American Indian mid-year conference in Spokane, WA and the United South and Eastern Tribes annual meeting in Cherokee, NC. The listening sessions are intended to provide any tribe that may have tribal members buried in this cemetery with an opportunity to share their views on this topic with Agency representatives, along with any data or analysis they may have. All comments will be transcribed and available upon request from Mr. Art Smith, whose contact information is listed below in this notice. We encourage tribes to participate in these listening sessions.

DATES: The listening sessions will be held on Monday, June 27, 2016, from 9:00 a.m. to 5 p.m., Local Time, and on Wednesday, October 26, 2016, from 1:30 p.m. to 5:00 p.m., Local Time. If all interested parties have had the opportunity to comment, the sessions may conclude early.

ADDRESSES: The June 27th listening session will be held at the Spokane Convention Center, Room 301, 334 West Spokane Falls Blvd., Spokane, WA 99201. The October 26th session will be held at the Harrah's Cherokee Hotel and Casino, 777 Casino Dr., Cherokee, NC 28719. In addition to attending the session in person, the Agency offers several ways to provide comments, as enumerated below.

FOR FURTHER INFORMATION CONTACT: Mr. Arthur Smith, Army National Military Cemeteries at: usarmy.pentagon.hqda-anmc.mbx.accountability-coe@mail.mil.

SUPPLEMENTARY INFORMATION: Submitting Comments: ANMC is accepting public comments through October 30, 2016. You may submit your comments and material by mail, or email, but please use only one of these means. ANMC recommends that you include your name and a mailing address, an email address, or a phone number in the body of your document so that ANMC can contact you if there are questions regarding your submission.

If you submit your comments by mail or hand delivery, submit them in an unbound format, no larger than 8½ by 11 inches, suitable for copying and electronic filing. If you submit comments by mail and would like to know that they reached the facility, please enclose a stamped, self-addressed postcard or envelope. Choose whether you are submitting your comment as a representative of a known individual buried at Carlisle cemetery or as a representative of a tribal government and then submit.

We will consider all comments and material received during the comment period, October 30, 2016.

You may submit comments identified by:

Mail: Army National Military Cemeteries, 1 Memorial Drive, Arlington, VA 22211.

Email: usarmy.pentagon.hqda-anmc.mbx.accountability-coe@mail.mil.

Background: In January 2016, Army received requests from two tribes to exhume the remains of tribal individuals buried in the Carlisle Indian Industrial School cemetery and repatriate those remains to the tribe. Historic records indicate that the School and cemetery were operated from 1879 until 1918, under the direction of the Indian Bureau. In 1918, the Army regained control of the property and established a hospital to care for the large number of wounded returning from the European battlefield. The exact number of Native Americans interred in the cemetery is uncertain as the cemetery includes a number of non-Natives and unknown burials. Army is working with the Bureau of Indian Affairs to obtain school records which may provide additional details on those buried in this cemetery.

Army Regulation 210-190 requires specific documentation to establish the identity of the living relatives with closest familial ties and the legal authority to represent the family. The Army recognizes that since the deceased were children and it is unlikely that there are direct descendants, tracing other relatives may be a more involved process.

Meeting Participation and Information ANMC seeks from the public: ANMC would like to know the views of the affected tribes and families on the issue of disinterment from the Carlisle cemetery. The listening session is open to the public. Speakers should try to limit their remarks to 3-5 minutes. No preregistration is required. Attendees may submit material to the ANMC staff at the session or through other means provided above.

Patrick K. Hallinan,
Executive Director, Army National Military Cemeteries.

[FR Doc. 2016-12910 Filed 6-1-16; 8:45 am]

BILLING CODE 5001-03-P